INTERNATIONAL TRADE COMMISSION

[Investigation Nos. 701-TA-453 and 731-TA-1136-1137 (Preliminary)]

Sodium Nitrite From China and Germany

Determinations

On the basis of the record ¹ developed in the subject investigations, the United States International Trade Commission (Commission) determines, pursuant to section 703(a) of the Tariff Act of 1930 (19 U.S.C. 1671b(a)) (the Act), that there is a reasonable indication that an industry in the United States is materially injured by reason of imports from China of sodium nitrite, provided for in subheading 2834.10 of the Harmonized Tariff Schedule of the United States, that are alleged to be subsidized by the Government of China. The Commission further determines, pursuant to section 733(a) of the Act (19 U.S.C. 1673b(a)), that there is a reasonable indication that an industry in the United States is materially injured by reason of imports from China and Germany of sodium nitrite, that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations concerning sodium nitrite from China and Germany. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users and, if the merchandise under investigation is sold at the retail level, representative consumer organizations have the right to appear as parties in Commission antidumping and countervailing duty investigations. The Secretary will prepare a public service list containing the names and addresses of all persons, or their representatives, who are parties to the investigations.

Background

On November 8, 2007, a petition was filed with the Commission and Commerce by General Chemical LLC, Parsippany, NJ, alleging that an industry in the United States is materially injured or threatened with material injury by reason of subsidized imports of sodium nitrite from China, and by reason of LTFV imports of sodium nitrite from China and Germany. Accordingly, effective November 8, 2007, the Commission instituted countervailing and antidumping duty investigations Nos. 701-TA-453 and 731-TA-1136-1137 (Preliminary).

Notice of the institution of the Commission's investigations and of a public conference to be held in connection therewith was given by posting copies of the notice in the Office of the Secretary, U.S. International Trade Commission, Washington, DC, and by publishing the notice in the Federal Register of November 15, 2007 (72 FR 64241). The conference was held in Washington, DC, on November 27, 2007, and all persons who requested the opportunity were permitted to appear in person or by counsel.

The Commission transmitted its determinations in these investigations to the Secretary of Commerce on December 26, 2007. The views of the Commission are contained in USITC Publication 3979 (January 2008), entitled Sodium Nitrite from China and Germany: Investigation Nos. 701-TA-453 and 731-TA-1136-1137 (Preliminary).

By order of the Commission.
Issued: January 3, 2008.
Marilyn R. Abbott,
Secretary to the Commission.

[FR Doc. E8-414 Filed 1-11-08; 8:45 am]

BILLING CODE 7020-02-P